DEPARTMENT OF ENERGY

Federal Energy Regulatory Commission

[Docket No. ER00-1783-003, et al.]

Duke Energy Vermillion, LLC, et al.; Electric Rate and Corporate Filings

May 8, 2003.

The following filings have been made with the Commission. The filings are listed in ascending order within each docket classification.

1. Duke Energy Vermillion, LLC

[Docket No. ER00-1783-003]

Take notice that on May 5, 2003, Duke Energy Vermillion, LLC (Duke Vermillion) tendered for filing with the Federal Energy Regulatory Commission (Commission) its triennial market power analysis in compliance with the Commission's Order granting it market-based rate authority in Docket No. ER00-1783-000 and ER00-1783-001 on May 4, 2000.

Duke Vermillion states that copies of this filing were served upon those parties on the official service list.

Comment Date: May 27, 2003.

2. California Independent System

[Docket Nos. ER03-218-003 and ER03-219-003]

Take notice that on May 5, 2003, California Independent System Operator Corporation (ISO) tendered for filing with the Federal Energy Regulatory Commission (Commission) a Motion to Withdraw Elements of Compliance Filing that was filed with the Commission on April 15, 2003 in compliance with the Commission's January 24, 2003 order in Docket Nos. ER03-218-000 and ER03-219-000.

Comment Date: May 27, 2003.

3. American Electric Power Service Corporation

[Docket No. ER03-242-002]

Take notice that on April 30, 2003, American Electric Power Service Corporation, on behalf of certain operating companies of the American Electric Power System (collectively AEP) tendered for filing with the Federal Energy Regulatory Commission (Commission) a request for permission to withdraw the rate filing made in Docket No. ER03-242-000 on December 3, 2003.

AEP states that copies of this filing have been served on the parties to this docket and on the public service commissions of Indiana, Kentucky, Michigan, Ohio, Tennessee, Virginia and West Virginia.

Comment Date: May 15, 2003.

4. The New PJM Companies: American Electric Power Service Corporation

On Behalf of its Operating Companies: Appalachian Power Company, Columbus Southern Power Company, Indiana Michigan Power Company, Kentucky Power Company, Kingsport Power Company, Ohio Power Company, and Wheeling Power Company

Commonwealth Edison Company and Commonwealth Edison Company of Indiana, Inc; The Dayton Power and Light Company; Virginia Electric and Power Company; and PJM Interconnection, L.L.C.

[Docket No. ER03-262-004]

Take notice that on May 1, 2003, American Electric Power Service Corporation (AEP), Commonwealth Edison Company (ComEd), Dayton Power and Light Company, and Virginia Electric and Power Company (collectively referred to as the New PJM Companies), and PJM Interconnection, L.L.C. (PJM), jointly submitted this filing with the Federal Energy Regulatory Commission (Commission) in compliance with the Commission's order of April 1, 2003, in the above-referenced proceeding, American Electric Power Service Corporation, et al., 103 FERC ¶ 61,008 (2003).

New PJM Companies and PJM state that a paper copy of the transmittal letter describing this filing was served on all state public utility commissions having jurisdiction over the New PJM Companies, all PJM members and all transmission customers of the New PJM Companies. In addition, PJM Companies state that the filing, in its entirety, is being posted on the PJM Web site (http://www.pjm.com) to download by any interested party.

Comment Date: May 22, 2003.

5. Idaho Power Company

[Docket Nos. ER03-487-001 and ER03-488-001]

Take notice that on May 1, 2003, Idaho Power Company (Idaho Power) filed with the Federal Energy Regulatory Commission (Commission) its compliance filing pursuant to the Commission's order issued March 31, 2003,102 FERC 61,351.

Comment Date: May 22, 2003.

6. New England Power Company

[Docket No. ER03-678-001]

Take notice that on May 5, 2003, New England Power Company (NEP) tendered for filing with the Federal Energy Regulatory Commission (Commission) an amendment to its March 31, 2003 filing in this docket. The filing concerns a Third Revised Service Agreement No. 20 between NEP and its affiliate, Massachusetts Electric Company (MECO), under NEP's FERC Electric Tariff, Original Volume No. 1.

NEP states that copies of this filing have been served on MECO and regulators in the state of Massachusetts.

Comment Date: May 27, 2003.

7. American Transmission Company LLC

[Docket No. ER03-780-001]

Take notice that on May 5, 2003, American Transmission Company LLC (ATCLLC) tendered for filing a revised Service Agreement designation for the Generation-Transmission Interconnection Agreement between ATCLLC and Wisconsin Public Service Corporation that was filed on April 28, 2003. ATCLLC requests an effective date of March 28, 2003.

Comment Date: May 27, 2003.

8. Midwest Energy, Inc.

[Docket No. ER03-812-000]

Take notice that on May 5, 2003, Midwest Energy, Inc. (Midwest) tendered for filing with the Federal Energy Regulatory Commission (Commission) the Transaction Service Agreement entered into between Midwest and Public Service Company of Colorado.

Midwest states that it is serving copies of the instant filing on the Kansas Corporation Commission.

Comment Date: May 27, 2003.

9. Midwest Energy, Inc.

[Docket No. ER03-813-000]

Take notice that on May 5, 2003, Midwest Energy, Inc. (Midwest) tendered for filing with the Federal Energy Regulatory Commission (Commission) the Transaction Service Agreement entered into between Midwest and Southwestern Public Service Company.

Midwest states that it is serving copies of the instant filing on the Kansas Corporation Commission.

Comment Date: May 27, 2003.

10. Midwest Energy, Inc.

[Docket No. ER03-814-000]

Take notice that on May 5, 2003, Midwest Energy, Inc. (Midwest) tendered for filing with the Federal Energy Regulatory Commission (Commission) the Transaction Service Agreement entered into between Midwest and Northern States Power Company.

Midwest states that it is serving copies of the instant filing on the Kansas Corporation Commission.

Comment Date: May 27, 2003.

11. FPL Energy Services, Inc.

[Docket No. ER03-815-000]

Take notice that on May 5, 2003, FPL Energy Services, Inc. tendered for filing with the Federal Energy Regulatory Commission (Commission) a Notice of Cancellation pursuant to sections 35.15 and 131.53 of the Commission's regulations, 18 CFR 35.15 and 131.53, in order to reflect the cancellation of its market-based rate tariff, designated as Rate Schedule FERC No. 1, originally accepted for filing in Docket No. ER99-2337-000.

Comment Date: May 27, 2003.

12. Commonwealth Edison Company

[Docket No. ER03-816-000]

Take notice that on May 5, 2003, Commonwealth Edison Company (ComEd) tendered for filing with the Federal Energy Regulatory Commission (Commission) a Service Agreement and associated Dynamic Scheduling Agreement between ComEd and Alliant Energy under ComEd's Open Access Transmission Tariff. ComEd requests an effective date of April 1, 2003.

ComEd states that copies of the filing were served upon Alliant Energy and the Illinois Commerce Commission.

Comment Date: May 27, 2003.

13. New England Power Pool

[Docket No. ER03-817-000]

Take notice that on May 2, 2003, the New England Power Pool (NEPOOL) Participants Committee filed for acceptance materials to: (1) Permit NEPOOL to expand its membership to include Connecticut Resources Recovery Authority (CRRA), Cinergy Services, Inc. (CSI), FPL Energy New England Transmission, LLC (FPL NET), Millennium Power Partners, LP (Millennium), and Rainbow Energy Marketing Corporation (Rainbow); and (2) to terminate the membership of PECO Energy Company—Power Team (PECO).

The NEPOOL Participants Committee requests the following effective dates:April 1, 2003 for the termination of PECO; May 1, 2003 for the commencement of participation in NEPOOL by CSI, Millennium, and Rainbow; July 1, 2003 for commencement of participation in NEPOOL by CRRA; and an effective date for commencement of participation in NEPOOL by FPL NET as of the date the Commission approves in Docket No. EC03-69-000 the transfer of certain jurisdictional assets related to the interconnecting transmission facilities for the Seabrook Nuclear Generating Station from FPL Energy Seabrook, LLC to FPL NET.

The Participants Committee states that copies of these materials were sent to the New England state governors and regulatory commissions and the Participants in NEPOOL.

Comment Date: May 23, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-12256 Filed 5-15-03; 8:45 am]

BILLING CODE 6717-01-P